DEPARTMENT OF ENERGY

Federal Energy Regulatory Commission

Combined Notice of Filings #1

Take notice that the Commission received the following electric rate filings:

Docket Numbers: ER10-1290-010.

Applicants: San Diego Gas & Electric Company.

Description: Triennial Market Power Analysis for Southwest Region of San Diego Gas & Electric Company.

Filed Date: 12/30/21.

Accession Number: 20211230-5162.

Comment Date: 5 p.m. ET 2/28/22.

Docket Numbers: ER10-2178-038; ER10-2192-038; ER12-1223-023; ER12-1829-018; ER13-1536-022; ER16-2363-005.

Applicants: Bluestem Wind Energy, LLC, Exelon Generation Company, LLC, Shooting Star Wind Project, LLC, Wildcat Wind, LLC, Constellation Energy Commodities Group Maine, LLC, Constellation NewEnergy, Inc.

Description: Triennial Market Power Analysis for Southwest Power Pool Inc. Region of Constellation NewEnergy, Inc., et al.

Filed Date: 12/30/21.

Accession Number: 20211230-5175.

Comment Date: 5 p.m. ET 2/28/22.

Docket Numbers: ER10-2289-013; ER10-2564-013; ER10-2600-013.

Applicants: UNS Electric, Inc., Tucson Electric Power Company, UniSource Energy Development Company.

Description: Triennial Market Power Analysis for Southwest Region of UniSource Energy Development Company, et al.

Filed Date: 12/29/21.

Accession Number: 20211229-5180.

Comment Date: 5 p.m. ET 2/28/22.

Docket Numbers: ER10-2308-002; ER10-2310-006; ER10-2311-006; ER10-2312-006; ER10-2314-006; ER12-1195-005; ER14-2486-003; ER15-595-003; ER15-924-003; ER15-926-003; ER15-927-003; ER17-2580-002.

Applicants: SEMASS Partnership, Covanta Plymouth Renewable Energy, LLC, Covanta Niagara I, LLC, Covanta Haverhill Associates, LP, Covanta Fairfax, Inc., Covanta Union, LLC, Camden County Energy Recovery Associates, L.P., Covanta Energy Marketing LLC, Covanta Hempstead Company, Covanta Essex Company, Covanta Delaware Valley, L.P., Covanta Delano, Inc.

Description: Notice of Change in Status of Covanta Delano, Inc., et al.

Filed Date: 12/30/21.

Accession Number: 20211230-5183.

Comment Date: 5 p.m. ET 1/20/22.

Docket Numbers: ER10-2721-011.

Applicants: El Paso Electric Company.

Description: Triennial Market Power Analysis for Southwest Region of El Paso Electric Company.

Filed Date: 12/30/21.

Accession Number: 20211230-5164.

Comment Date: 5 p.m. ET 2/28/22.

Docket Numbers: ER10-2881-038; ER15-647-008; ER15-2191-007; ER16-750-008; ER16-2659-006; ER19-2005-002; ER20-136-003; ER21-2287-002.

Applicants: Glass Sands Wind Energy, LLC, Reading Wind Energy, LLC, Wildhorse Wind Energy, LLC, Grant Plains Wind, LLC, Bethel Wind Farm LLC, Grant Wind, LLC, Kay Wind, LLC, Alabama Power Company.

Description: Triennial Market Power Analysis for Southwest Power Pool Inc. Region of Alabama Power Company, et al.

Filed Date: 12/29/21.

Accession Number: 20211229-5183.

Comment Date: 5 p.m. ET 2/28/22.

Docket Numbers: ER18-2118-011; ER20-2179-005; ER12-569-026; ER16-2453-016; ER16-2190-015; ER16-2191-015; ER15-1925-019; ER15-2676-018; ER16-1672-016; ER13-712-027; ER17-2152-012; ER20-1986-003; ER10-1849-025; ER18-882-011; ER21-2296-001; ER10-1852-054; ER11-2642-020; ER20-2019-004; ER20-2064-004; ER12-1228-026; ER21-2225-001; ER16-2275-014; ER16-2276-014; ER21-2117-001; ER18-2003-010; ER14-2707-021; ER20-1907-003; ER21-2149-001.

Applicants: Minco Wind Energy II, LLC, Minco Wind I, LLC, Mammoth Plains Wind Project, LLC, Lorenzo Wind, LLC, Little Blue Wind Project, LLC, Kingman Wind Energy II, LLC, Kingman Wind Energy I, LLC, Irish Creek Wind, LLC, High Majestic Wind II, LLC, High Majestic Wind I, LLC, Gray County Wind, LLC,FPL Energy South Dakota Wind, LLC, Florida Power & Light Company, Ensign Wind Energy, LLC, Elk City Renewables II, LLC, Elk City Wind, LLC, Day County Wind I, LLC, Cottonwood Wind Project, LLC, Cimarron Wind Energy, LLC, Chaves County Solar, LLC, Cedar Bluff Wind, LLC, Breckinridge Wind Project, LLC, Brady Wind II, LLC, Brady Wind, LLC, Brady Interconnection, LLC, Blackwell Wind, LLC, Baldwin Wind Energy, LLC, Armadillo Flats Wind Project, LLC.

Description: Triennial Market Power Analysis for Southwest Power Pool Inc. Region of NextEra Companies Part 1, et al.

Filed Date: 12/28/21.

Accession Number: 20211228-5245.

Comment Date: 5 p.m. ET 2/28/22.

Docket Numbers: ER21-2699-001; ER18-2066-005; ER12-895-024; ER18-2182-010; ER11-4462-056; ER17-838-031; ER10-1951-034; ER16-2241-014; ER20-2648-004; ER20-792-004; ER16-2297-014; ER14-2710-021; ER15-58-019; ER20-1991-004; ER18-1981-010; ER16-1440-015; ER16-2240-015; ER19-1128-004; ER14-2708-022; ER14-2709-021; ER15-30-019; ER18-2314-006; ER20-2603-004; ER20-2597-004; ER19-2513-006; ER20-637-004; ER18-2032-010; ER20-780-004; ER13-2474-020; ER20-2237-004; ER19-2495-006.

Applicants: Wessington Springs Wind, LLC, Weatherford Wind, LLC, Steele Flats Wind Project, LLC, Sooner Wind, LLC, Wildcat Ranch Wind Project, LLC, Wilton Wind Energy I, LLC, Wilton Wind Energy II, LLC, Soldier Creek Wind, LLC, Skeleton Creek Wind, LLC, Sholes Wind Energy, LLC, Seiling Wind Interconnection Services, LLC, Seiling Wind II, LLC, Seiling Wind, LLC, Rush Springs Energy Storage, LLC, Rush Springs Wind Energy, LLC, Roswell Solar, LLC, Pratt Wind, LLC, Ponderosa Wind, LLC, Palo Duro Wind Interconnection Services, LLC ,Palo Duro Wind Energy, LLC, Osborn Wind Energy, LLC, Oklahoma Wind, LLC, Northern Divide Wind, LLC, Ninnescah Wind Energy, LLC, Gexa Energy L.L.C., NextEra Energy Marketing, LLC,NEPM II, LLC, Minco IV & V Interconnection, LLC, Minco Wind Interconnection Services, LLC, Minco Wind IV, LLC, Minco Wind Energy III, LLC.

Description: Triennial Market Power Analysis for Southwest Power Pool Inc. Region of NextEra Companies Part 2, et al.

Filed Date: 12/29/21.

Accession Number: 20211229-5178.

Comment Date: 5 p.m. ET 2/28/22.

Docket Numbers: ER22-745-000.

Applicants: Cove Mountain Solar, LLC.

Description: Baseline eTariff Filing: Reactive Power Compensation Baseline to be effective 12/31/2021.

Filed Date: 12/30/21.

Accession Number: 20211230-5002.

Comment Date: 5 p.m. ET 1/20/22.

Docket Numbers: ER22-746-000.

Applicants: Cove Mountain Solar 2, LLC.

Description: Baseline eTariff Filing: Reactive Power Compensation Baseline to be effective 12/31/2021.

Filed Date: 12/30/21.

Accession Number: 20211230-5004.

Comment Date: 5 p.m. ET 1/20/22.

Docket Numbers: ER22-747-000.

Applicants: New England Power Pool Participants Committee.

Description: § 205(d) Rate Filing: January 2022 Membership Filing to be effective 1/1/2022.

Filed Date: 12/30/21.

Accession Number: 20211230-5006.

Comment Date: 5 p.m. ET 1/20/22.

Docket Numbers: ER22-748-000.

Applicants: Alabama Power Company.

Description: § 205(d) Rate Filing: Decatur Solar Energy Center Amended and Restated LGIA Filing to be effective 12/15/2021.

Filed Date: 12/30/21.

Accession Number: 20211230-5098.

Comment Date: 5 p.m. ET 1/20/22.

Docket Numbers: ER22-749-000.

Applicants: Alabama Power Company.

Description: Initial rate filing: Chautauqua Solar Affected System Upgrade Agreement Filing to be effective 10/18/2021.

Filed Date: 12/30/21.

Accession Number: 20211230-5176.

Comment Date: 5 p.m. ET 1/20/22.

Docket Numbers: ER22-750-000.

Applicants: Georgia Power Company.

Description: Initial rate filing: Chautauqua Solar Affected System Upgrade Agreement Filing to be effective 10/18/2021.

Filed Date: 12/30/21.

Accession Number: 20211230-5179.

Comment Date: 5 p.m. ET 1/20/22.

Docket Numbers: ER22-751-000.

Applicants: Mississippi Power Company.

Description: Initial rate filing: Chautauqua Solar Affected System Upgrade Agreement Filing to be effective 10/18/2021.

Filed Date: 12/30/21.

Accession Number: 20211230-5180.

Comment Date: 5 p.m. ET 1/20/22.

Docket Numbers: ER22-752-000.

Applicants: New York Independent System Operator, Inc.

Description: § 205(d) Rate Filing: Section 205 filing of LGIA among NYISO, LIPA and South Fork Wind SA No. 2671 to be effective 12/15/2021.

Filed Date: 12/30/21.

Accession Number: 20211230-5222.

Comment Date: 5 p.m. ET 1/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2021.
Kimberly D. Bose,
Secretary.

[FR Doc. 2022-00094 Filed 1-6-22; 8:45 am]

BILLING CODE 6717-01-P